DEPARTMENT OF DEFENSE

Office of the Secretary

Defense Innovation Board; Notice of Federal Advisory Committee Meeting

AGENCY: Under Secretary of Defense for Research and Engineering, Defense Innovation Board, Department of Defense.

ACTION: Notice of federal advisory committee meeting.

SUMMARY: The Department of Defense (DoD) is publishing this notice to announce that the following Federal Advisory Committee meeting of the Defense Innovation Board will take place.

DATES: Open to the public Thursday, March 21, 2019 from 9:30 a.m. to 12:30 p.m. (Escort is required for attendees who do not have Pentagon credentials. See guidance in the SUPPLEMENTARY INFORMATION section.).

ADDRESSES: The meeting will be held at the Pentagon, Arlington, Virginia. The public meeting will be live streamed for those who are unable to physically attend the meeting. (Escort is required for attendees who do not have Pentagon credentials. See guidance in the SUPPLEMENTARY INFORMATION section.)

FOR FURTHER INFORMATION CONTACT: Michael L. Gable, (571) 372-0933 (Voice), (Facsimile), michael.l.gable.civ@mail.mil (Email). Mailing address is Defense Innovation Board, 3030 Defense Pentagon, Room 5E572, Washington, DC 20301-3030. Website: http://innovation.defense.gov. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The mission of the DIB is to examine and provide the Secretary of Defense and the Deputy Secretary of Defense independent advice and recommendations on innovative means to address future challenges in terms of integrated change to organizational structure and processes, business and functional concepts, and technology applications. The DIB focuses on (a) technology and capabilities, (b) practices and operations, and (c) people and culture.

Agenda: During the meeting, the DIB will receive a presentation from the Under Secretary of Defense for Research and Engineering. The Science and Technology subcommittee will discuss their work on principles for the ethical use of Artificial Intelligence and their study on the viability of 5G capability for DoD. The Workforce Behavior and Culture subcommittee will discuss career paths and their work plan for calendar year 2019. The DIB will also receive a progress update on the Software Acquisition and Practices (SWAP) study directed in the National Defense Authorization Act for Fiscal Year 2018 (“the FY18 NDAA”) and deliberate on the working draft of the study. Additionally, Mr. Joshua Marcuse, on behalf of DoD, will brief the DIB on DoD's latest implementation activities related to DIB recommendations. Members of the public will have an opportunity to provide oral comments to the DIB regarding its deliberations and potential recommendations. See below for additional information on how to sign up to provide public comments.

Meeting Accessibility: Pursuant to Federal statutes and regulations (the FACA, the Sunshine Act, and 41 CFR 102-3.140 through 102-3.165) and the availability of space, the meeting is open to the public from 9:30 a.m. to 12:30 p.m. Seating is on a first-come basis. Members of the public wishing to attend the meeting or wanting to receive a link to the live stream webcast should register on the DIB website, http://innovation.defense.gov, no later than March 18, 2019. Members of the media should RSVP to Lieutenant Colonel Michelle Baldanza, U.S. Army, Office of the Secretary of Defense Public Affairs, at michelle.l.baldanza.mil@mail.mil. Special Accommodations: Individuals requiring special accommodations to access the public meeting should contact the Designated Federal Officer (DFO), see FOR FURTHER INFORMATION CONTACT section for contact information, no later than March 7, 2019, so that appropriate arrangements can be made.

Written Statements: Pursuant to section 10(a)(3) of the FACA and 41 CFR 102-3.140, the public or interested organizations may submit written comments to the DIB about its approved agenda pertaining to this meeting or at any time regarding the DIB's mission. Individuals submitting a written statement must submit their statement to the DFO (see FOR FURTHER INFORMATION CONTACT section for contact information). Written comments that do not pertain to a scheduled meeting may be submitted at any time. However, if individual comments pertain to a specific topic being discussed at the planned meeting, then such comments must be received in writing not later than March 18, 2019. The DFO will compile all written submissions and provide them to DIB members for consideration.

Oral Presentations: Individuals wishing to make an oral statement to the DIB at the public meeting may be permitted to speak for up to two minutes. Anyone wishing to speak to the DIB should submit a request by email at osd.innovation@mail.mil not later than March 18, 2019 for planning. Requests for oral comments should include a copy or summary of planned remarks for archival purposes. Individuals may also be permitted to submit a comment request at the public meeting; however, depending on the number of individuals requesting to speak, the schedule may limit participation. Webcast attendees will be provided instructions with the live stream link if they wish to submit comments during the open meeting.

Dated: February 12, 2019.
Shelly E. Finke,
Alternate OSD Federal Register Liaison Officer, Department of Defense.

[FR Doc. 2019-02546 Filed 2-14-19; 8:45 am]

BILLING CODE 5001-06-P